DEPARTMENT OF ENERGY

Federal Energy Regulatory Commission

Combined Notice of Filings

Take notice that the Commission has received the following Natural Gas Pipeline Rate and Refund Report filings:

Filings Instituting Proceedings

Docket Numbers: PR26-13-000.

Applicants: Enstor Grama Ridge Storage and Transportation, L.L.C.

Description: 284.123 Rate Filing: Enstor Grama Ridge Storage Informational Filing Re Docket No. PR05-16 to be effective N/A.

Filed Date: 11/19/25.

Accession Number: 20251119-5109.

Comment Date: 5 p.m. ET 12/10/25.

Docket Numbers: PR26-14-000.

Applicants: Enstor Katy Storage and Transportation, L.P.

Description: 284.123 Rate Filing: Enstor Katy Storage Informational Filing Re Docket No. PR03-18 to be effective N/A.

Filed Date: 11/19/25.

Accession Number: 20251119-5115.

Comment Date: 5 p.m. ET 12/10/25.

Docket Numbers: PR26-15-000.

Applicants: Enstor Katy Storage and Transportation, L.P.

Description: 284.123 Rate Filing: Enstor Katy Storage Informational Filing Re Docket No. PR20-56 to be effective N/A.

Filed Date: 11/19/25.

Accession Number: 20251119-5116.

Comment Date: 5 p.m. ET 12/10/25.

Docket Numbers: RP26-204-000.

Applicants: Freebird Gas Storage, L.L.C.

Description: Compliance filing: Freebird Gas Storage Informational Filing Re Docket No. CP05-29 to be effective N/A.

Filed Date: 11/19/25.

Accession Number: 20251119-5125.

Comment Date: 5 p.m. ET 12/1/25.

Docket Numbers: RP26-205-000.

Applicants: Freebird Gas Storage, L.L.C.

Description: Compliance filing: Freebird Gas Storage Informational Filing Re Docket No. CP05-30 to be effective N/A.

Filed Date: 11/19/25.

Accession Number: 20251119-5126.

Comment Date: 5 p.m. ET 12/1/25.

Docket Numbers: RP26-206-000.

Applicants: Freebird Gas Storage, L.L.C.

Description: Compliance filing: Freebird Gas Storage Informational Filing Re Docket No. CP05-31 to be effective N/A.

Filed Date: 11/19/25.

Accession Number: 20251119-5128.

Comment Date: 5 p.m. ET 12/1/25.

Docket Numbers: RP26-207-000.

Applicants: Mississippi Hub, LLC.

Description: Compliance filing: Mississippi Hub Informational Filing Re CP07-04 to be effective N/A.

Filed Date: 11/19/25.

Accession Number: 20251119-5131.

Comment Date: 5 p.m. ET 12/1/25.

Docket Numbers: RP26-208-000.

Applicants: Mississippi Hub, LLC.

Description: Compliance filing: Mississippi Hub Informational Filing Re CP10-65 to be effective N/A.

Filed Date: 11/19/25.

Accession Number: 20251119-5132.

Comment Date: 5 p.m. ET 12/1/25.

Docket Numbers: RP26-209-000.

Applicants: Mississippi Hub, LLC.

Description: Compliance filing: Mississippi Hub Informational Filing Re CP09-110 to be effective N/A.

Filed Date: 11/19/25.

Accession Number: 20251119-5133.

Comment Date: 5 p.m. ET 12/1/25.

Docket Numbers: RP26-210-000.

Applicants: Mississippi Hub, LLC.

Description: Compliance filing: Mississippi Hub Informational Filing Re CP13-493 to be effective N/A.

Filed Date: 11/19/25.

Accession Number: 20251119-5135.

Comment Date: 5 p.m. ET 12/1/25.

Docket Numbers: RP26-211-000.

Applicants: Mississippi Hub, LLC.

Description: Compliance filing: Mississippi Hub Informational Filing Re CP19-198 to be effective N/A.

Filed Date: 11/19/25.

Accession Number: 20251119-5137.

Comment Date: 5 p.m. ET 12/1/25.

Docket Numbers: RP26-212-000.

Applicants: Mississippi Hub, LLC.

Description: Compliance filing: Mississippi Hub Informational Filing Re CP24-80 to be effective N/A.

Filed Date: 11/19/25.

Accession Number: 20251119-5138.

Comment Date: 5 p.m. ET 12/1/25.

Docket Numbers: RP26-213-000.

Applicants: Kinder Morgan Louisiana Pipeline LLC.

Description: 4(d) Rate Filing: Periodic Rate Adjustment—Fuel and L&U Retention Percentages December 2025 to be effective 1/1/2026.

Filed Date: 11/19/25.

Accession Number: 20251119-5139.

Comment Date: 5 p.m. ET 12/1/25.

Docket Numbers: RP26-214-000.

Applicants: Sierrita Gas Pipeline LLC.

Description: Compliance filing: Sierrita Operational Purchase and Sales Report 2025 to be effective N/A.

Filed Date: 11/19/25.

Accession Number: 20251119-5157.

Comment Date: 5 p.m. ET 12/1/25.

Docket Numbers: RP26-215-000.

Applicants: The City of San Antonio, acting by and through the City Public Service Board, Topaz Generating, LLC.

Description: Joint Petition for Limited Waiver of Capacity Release Regulations, et al. of City Public Service Board, et al.

Filed Date: 11/19/25.

Accession Number: 20251119-5188.

Comment Date: 5 p.m. ET 12/1/25.

Docket Numbers: RP26-216-000.

Applicants: Iroquois Gas Transmission System, L.P.

Description: 4(d) Rate Filing: 11.20.25 Negotiated Rates—Freepoint Commodities LLC R-7250-52 to be effective 12/1/2025.

Filed Date: 11/20/25.

Accession Number: 20251120-5048.

Comment Date: 5 p.m. ET 12/2/25.

Docket Numbers: RP26-217-000.

Applicants: Iroquois Gas Transmission System, L.P.

Description: 4(d) Rate Filing: 11.20.25 Negotiated Rates—Freepoint Commodities LLC R-7250-51 to be effective 12/1/2025.

Filed Date: 11/20/25.

Accession Number: 20251120-5050.

Comment Date: 5 p.m. ET 12/2/25.

Docket Numbers: RP26-219-000.

Applicants: Iroquois Gas Transmission System, L.P.

Description: 4(d) Rate Filing: 11.20.25 Negotiated Rates—Castleton Commodities Merchant Trading R-4010-06 to be effective 12/1/2025.

Filed Date: 11/20/25.

Accession Number: 20251120-5058.

Comment Date: 5 p.m. ET 12/2/25.

Docket Numbers: RP26-220-000.

Applicants: Columbia Gas Transmission, LLC.

Description: 4(d) Rate Filing: TCO Neg Rate Agmts Eff. 12.1.25 to be effective 12/1/2025.

Filed Date: 11/20/25.

Accession Number: 20251120-5079.

Comment Date: 5 p.m. ET 12/2/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR25-71-001.

Applicants: Mid Continent Market Center, L.L.C.

Description: Amendment Filing: Revised Statement of Operating Conditions for 2025 Rate Certification to be effective 10/1/2025.

Filed Date: 11/18/25.

Accession Number: 20251118-5209.

Comment Date: 5 p.m. ET 12/12/25.

284.123(g) Protest: 5 p.m. ET 7/28/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 20, 2025.
Carlos D. Clay,
Deputy Secretary.

[FR Doc. 2025-20976 Filed 11-24-25; 8:45 am]

BILLING CODE 6717-01-P